DEPARTMENT OF COMMERCE

International Trade Administration

[A-570-133]

Certain Metal Lockers and Parts Thereof From the People's Republic of China: Final Results of Antidumping Duty Administrative Review; 2021-2022

AGENCY: Enforcement and Compliance, International Trade Administration, Department of Commerce.

SUMMARY: The U.S. Department of Commerce (Commerce) finds that Zhejiang Xingyi Metal Products Co., Ltd. (ZXM)/Xingyi Metalworking Technology (Zhejiang) Co., Ltd. (XMT) (collectively, ZXM/XMT) and Hangzhou Evernew Machinery & Equipment Company Limited/Zhejiang Yinghong Metalworks Co., Ltd. (Hangzhou Evernew) made sales of certain metal lockers and parts thereof (metal lockers) from the People's Republic of China (China) during the period of review (POR), February 11, 2021, through July 31, 2022.

DATES: Applicable February 9, 2024.

FOR FURTHER INFORMATION CONTACT: Deborah Cohen or Matthew Palmer, AD/CVD Operations, Office III, Enforcement and Compliance, International Trade Administration, U.S. Department of Commerce, 1401 Constitution Avenue NW, Washington, DC 20230; telephone: (202) 482-4521 or (202) 482-1678, respectively.

SUPPLEMENTARY INFORMATION:

Background

On September 8, 2023, Commerce published the Preliminary Results in the Federal Register.¹ On December 19, 2023, Commerce extended the deadline of the final results of this administrative review to February 6, 2024 in accordance with section 751(a)(3)(A) of the Tariff Act of 1930, as amended (the Act), and 19 CFR 351.213(h)(2).² For a complete description of the events that followed the Preliminary Results, see the Issues and Decision Memorandum.³ Commerce conducted this review in accordance with section 751(a) of the Tariff Act of 1930, as amended (the Act).

¹ See Certain Metal Lockers and Parts Thereof from the People's Republic of China: Preliminary Results and Partial Rescission of Antidumping Duty Administrative Review, 88 FR 62061 (September 8, 2023) (Preliminary Results), and accompanying Preliminary Decision Memorandum (PDM).

² See Memorandum, “Extension of Deadline for Final Results of Antidumping Duty Administrative Review,” dated December 19, 2023.

³ See Memorandum, “Issues and Decision Memorandum for the Final Results of the Administrative Review of the Antidumping Duty Order on Certain Metal Lockers and Parts Thereof from the People's Republic of China; 2021-2022,” dated concurrently with this notice (Issues and Decision Memorandum).

Scope of the Order ⁴

⁴ See Certain Metal Lockers and Parts Thereof from the People's Republic of China: Antidumping and Countervailing Duty Orders, 86 FR 46826 (August 20, 2021) (Order).

The products covered by the Order are metal lockers from China. For a complete description of the Order, see the Issues and Decision Memorandum.

Analysis of Comments Received

All issues raised in the case and rebuttal briefs are addressed in the Issues and Decision Memorandum. A list of the issues that parties raised and to which we responded in the Issues and Decision Memorandum is attached as the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties regarding the Preliminary Results, we made certain changes to the margin calculations for Hangzhou Evernew and ZXM/XMT.⁵

⁵ For a full description of these changes, see the Issues and Decision Memorandum.

Rate for Non-Examined Separate Rate Respondents

In the Preliminary Results, we determined that three non-individually examined companies are eligible for separate rates in this administrative review.⁶ We did not receive any comments or argument since the issuance of the Preliminary Results that provide a basis for reconsideration of this determination. Therefore, for these final results, we continue to find that Kunshan Dongchu Precision Machinery Co., Ltd., Tianjin Jia Mei Metal Furniture Ltd., and Zhejiang Focus-On Import & Export Co., Ltd. qualify for a separate rate in this review.

⁶ See Preliminary Results PDM at the “Separate Rate Determination” section for further details.

The Act and Commerce's regulations do not address the establishment of a separate rate to be applied to companies not selected for individual examination when Commerce limits its examination in an administrative review pursuant to section 777A(c)(2) of the Act. Generally, Commerce looks to section 735(c)(5) of the Act, which provides instructions for calculating the all-others rate in an investigation, for guidance when calculating the rate for separate-rate respondents which Commerce did not examine individually in an administrative review. Section 735(c)(5)(A) of the Act states that the all-others rate should be calculated by averaging the weighted-average dumping margins calculated for individually-examined respondents, excluding dumping margins that are zero, de minimis, or based entirely on facts available. Accordingly, for the final results of this review, we are assigning to the non-selected separate rate respondents an estimated weighted-average dumping margin based on the average of Hangzhou Evernew and ZXM/XMT weighted-average dumping margins weighted by their publicly available ranged U.S. sales values.

Final Results of Review

Commerce determines that the following estimated weighted-average dumping margins exist for the period February 11, 2021, through July 31, 2022:

Exporter | Weighted- average dumping margin (percent)
Zhejiang Xingyi Metal Products Co., Ltd./Xingyi Metalworking Technology (Zhejiang) Co., Ltd | 59.52
Hangzhou Evernew Machinery & Equipment Company Limited/Zhejiang Yinghong Metalworks Co., Ltd.⁷ | 190.01
Kunshan Dongchu Precision Machinery Co., Ltd | 75.08
Tianjin Jia Mei Metal Furniture Ltd | 75.08
Zhejiang Focus-On Import & Export Co., Ltd | 75.08

Disclosure

⁷ We preliminarily found that Hangzhou Evernew and its producer, Zhejiang Yinghong Metalworks Co., Ltd., are affiliated, pursuant to section 771(33)(F) of the Act and 19 CFR 351.102(b)(3) and should be treated as a single entity pursuant to 19 CFR 351.401(f)(1) for the purposes of the Preliminary Results. See Preliminary Results PDM at the “Single Entity Analysis” section for further discussion of the preliminary collapsing determination. We received no comments from interested parties on this preliminary determination; thus, we continue to find these companies should be treated as a single entity for purposes of these final results.

Commerce intends to disclose the calculations performed in connection with these final results to interested parties within five days of the date of publication of this notice, in accordance with 19 CFR 351.224(b).

Assessment Rates

Pursuant to section 751(a)(2)(C) of the Act and 19 CFR 351.212(b), Commerce determined, and U.S. Customs and Border Protection (CBP) shall assess, antidumping duties on all appropriate entries of subject merchandise in accordance with the final results of this review. Pursuant to 19 CFR 351.212(b)(1), where ZXM/XMT and Hangzhou Evernew reported the entered values of their U.S. sales, we calculated importer-specific antidumping duty assessment rates by aggregating the total amount of dumping calculated for the examined sales of each importer and dividing each of these amounts by the total entered value associated with those sales. Where ZXM/XMT and Hangzhou Evernew did not report entered value, we calculated a per-unit assessment rate for each importer by dividing the total amount of dumping calculated for the examined sales made to that importer by the total quantity associated with those sales. To determine whether an importer-specific, per-unit assessment rate is de minimis, in accordance with 19 CFR 351.106(c)(2), we also calculated an importer-specific ad valorem ratio based on estimated entered values. Where either a respondent's weighted-average dumping margin is zero or de minimis within the meaning of 19 CFR 351.106(c)(1), or an importer-specific assessment rate is zero or de minimis, we will instruct CBP to liquidate the appropriate entries without regard to antidumping duties. Pursuant to a refinement in our non-market economy practice, for sales that were not reported in the U.S. sales data submitted by ZXM/XMT and Hangzhou Evernew during this review, we will instruct CBP to liquidate entries associated with those sales at the rate for the China-wide entity.⁸

⁸ See Non-Market Economy Antidumping Proceedings: Assessment of Antidumping Duties, 76 FR 65694, 65695 (October 24, 2011) for a full discussion of this practice.

For the respondents which were not selected for individual examination in this administrative review, and which qualified for a separate rate, the assessment rate will be equal to the weighted-average dumping margin assigned to them for the final results.

Commerce intends to issue assessment instructions to CBP no earlier than 35 days after the date of publication of these final results. If a timely summons is filed at the U.S. Court of International Trade, the assessment instructions will direct CBP not to liquidate relevant entries until the time for parties to file a request for a statutory injunction has expired (i.e., within 90 days of publication).

Cash Deposit Requirements

The following cash deposit requirements will be effective upon publication of the final results of administrative review for all shipments of subject merchandise entered, or withdrawn from warehouse, for consumption on, or after, the publication date of the final results of review, as provided for by section 751(a)(2)(C) of the Act: (1) the cash deposit rates for the companies identified above in the “Final Results of Review” section will be equal to the company-specific weighted-average dumping margin established in the final results of this administrative review; (2) for a previously investigated or reviewed exporter of subject merchandise not listed in the final results of review that has a separate rate, the cash deposit rate will continue to be the exporter's existing cash deposit rate; (3) for all Chinese exporters of subject merchandise that do not have a separate rate, the cash deposit rate will be the cash deposit rate established for the China-wide entity, i.e., 322.25 percent; ⁹ and (4) for all exporters of subject merchandise that are not located in China and that are not eligible for a separate rate, the cash deposit rate will be the rate applicable to the China exporter(s) that supplied that non-Chinese exporter. These deposit requirements, when imposed, shall remain in effect until further notice.

⁹ See Certain Metal Lockers and Parts Thereof from the People's Republic of China: Notice of Court Decision Not in Harmony With the Final Determination of Antidumping Duty Investigation; Notice of Amended Final Determination, 88 FR 70644 (October 12, 2023).

As discussed in the Preliminary Results, we preliminarily determined that the record no longer supports a finding that ZXM should be collapsed with XMT subsequent to January 13, 2022, as ZXM ceased involvement with the production and/or exportation of subject merchandise prior to the POR, was acquired by an unrelated third-party a month prior, and all indicia of affiliation and/or control between the two companies ceased as of that date.¹⁰ Accordingly, we continue to review the single entity for the February 11, 2021, through January 13, 2022, segment of this review and for the purposes of subsequent assessment. This finding has not changed for the final results as no new evidence to the contrary has been timely placed on the record. Therefore, because XMT remains the only component of the former ZXM/XMT entity involved in the exportation of subject merchandise in the final results, we will assign the cash deposit rate only to XMT as the exporter, and instruct CBP to discontinue the ZXM/XMT combination rate.

¹⁰ See Preliminary Results, 88 FR at 62063.

Notification to Importers

This notice also serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties and/or an increase in the amount of antidumping duties by the amount of the countervailing duties.

Administrative Protective Order

This notice also serves as the final reminder to parties subject to an administrative protective order (APO) of their responsibility concerning the disposition of proprietary information disclosed under APO in accordance with 19 CFR 351.305(a)(3). Timely written notification of return/destruction of APO materials or conversion to judicial protective order is hereby requested. Failure to comply with the regulations and terms of an APO is a sanctionable violation.

Notification to Interested Parties

We are issuing and publishing this notice in accordance with sections 751(a)(l) and 777(i)(l) of the Act, 19 CFR 351.221(b)(5) and 19 CFR 351.213(h)(1).

Dated: February 2, 2024.
Abdelali Elouaradia,
Deputy Assistant Secretary for Enforcement and Compliance.

Appendix

List of Topics Discussed in the Issues and Decision Memorandum

I. Summary

II. Background

III. Scope of the Order

IV. Changes From the Preliminary Results

V. Discussion of the Issues

Comment 1: Surrogate Country Selection

Comment 2: Selection of Surrogate Value (SV) for ZXM/XMT's Pickling Board Inputs

Comment 3: Selection of SV for Hangzhou Evernew's Cold-Rolled Steel Inputs

Comment 4: Application of Adverse Facts Available (AFA) in Selecting the SV for Hangzhou Evernew's Ocean Freight Expenses

Comment 5: Deduction of Section 301 Duties From U.S. Price

Comment 6: Issuance of Importer-Specific Liquidation Instructions

Comment 7: Ministerial Error—Export Subsidy Adjustment for Hangzhou Evernew and ZXM/XMT

VI. Recommendation

[FR Doc. 2024-02638 Filed 2-8-24; 8:45 am]

BILLING CODE 3510-DS-P